ENVIRONMENTAL PROTECTION AGENCY

[EPA-HQ-OECA-2012-0678; FRL-9996-87-OMS]

Information Collection Request Submitted to OMB for Review and Approval; Comment Request; NESHAP for Mineral Wool Production (Renewal)

AGENCY: Environmental Protection Agency (EPA).

ACTION: Notice.

SUMMARY: The Environmental Protection Agency (EPA) has submitted an information collection request (ICR), NESHAP for Mineral Wool Production (EPA ICR Number 1799.10, OMB Control Number 2060-0362), to the Office of Management and Budget (OMB) for review and approval in accordance with the Paperwork Reduction Act. This is a proposed extension of the ICR, which is currently approved through September 30, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 30, 2019.

ADDRESSES: Submit your comments, referencing Docket ID Number EPA-HQ-OECA-2012-0678, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Mineral Wool Production were proposed on May 8, 1997, promulgated on June 1, 1999, and amended on July 29, 2015. These regulations apply to both new and existing mineral wool production facilities with cupolas and/or curing ovens. These standards apply to owners or operators located at a plant site that is a major source of hazardous air pollutant (HAP) emissions. This signifies that the plant has the potential to emit any single HAP at a rate of 9.07 megagrams (10 tons) or more per year or any combination of HAPs at a rate of 22.68 megagrams (25 tons) or more per year. New facilities include those that commenced construction or reconstruction after the date of proposal. This information is being collected to assure compliance with 40 CFR part 63, subpart DDD.

In general, all NESHAP standards require initial notification reports, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Mineral wool production facilities.

Respondent's obligation to respond: Mandatory (40 CFR part 60, subpart DDD).

Estimated number of respondents: 8 (total).

Frequency of response: Initially, semiannually.

Total estimated burden: 2,130 hours (per year). Burden is defined at 5 CFR 1320.3(b).

Total estimated cost: $308,000 (per year), which includes $6,000 in annualized capital/startup and/or operation & maintenance costs.

Changes in the Estimates: There is no change in the burden in this ICR compared to the previous ICR, however, there is an adjustment increase in the labor costs in this ICR compared to the previous ICR. This adjustment is due to a labor rate change in the calculation of labor costs. There are no changes to the capital and operation and maintenance costs.

Courtney Kerwin,
Director, Regulator Support Division.

[FR Doc. 2019-16228 Filed 7-30-19; 8:45 am]

BILLING CODE 6560-50-P